INTERNATIONAL TRADE COMMISSION

Privacy Act of 1974, as Amended; Addition of New Systems of Records and Revisions to Existing Systems of Records

AGENCY: United States International Trade Commission.

ACTION: Notice of proposed addition of new systems of records; addition of new routine uses and other changes to existing systems of records; request for comments on proposed revisions of systems of records.

SUMMARY: The U.S. International Trade Commission (“Commission”) previously published notices describing the systems of records it maintains pursuant to the Privacy Act of 1974. The Commission proposes to add four new systems of records. These new systems of records are entitled: Administrative Protective Order Breach and Related Records; Import and Export Records; Telecommuting Program Records; and Emergency Notification Records. The Commission also is issuing notice of its intent to take the following actions: Change the identity of the agency's Privacy Act Officer in the descriptions of all Commission systems of records; revise the existing system of records entitled “Pay, Leave, and Travel Records” by removing references to travel records and adding several new categories of records as well as a new routine use; revise the system of records designated as “Parking and Mass Transit Subsidy Records” by extending the categories of individuals covered by the system; and add new routine uses to the existing systems of records entitled “Office of Inspector General Investigative Files (General)” and “Office of Inspector General Investigative Files (Criminal).” The Commission issues this notice to satisfy the Privacy Act's requirement to publish in the Federal Register notice of the existence and character of records systems maintained by the Commission and of any new use or intended use of information in the Commission's systems of records. This notice also republishes in one location descriptions of all Commission systems of records for the convenience of interested parties.

DATES: Written comments must be received no later than July 31, 2006. The proposed revisions to the Commission's systems of records will become effective on that date unless otherwise published in the Federal Register.

ADDRESSES: Comments should be directed to the Secretary, U.S. International Trade Commission, 500 E Street, SW., Washington, DC 20436.

FOR FURTHER INFORMATION CONTACT: Monica A. Stump, Esq., Office of the General Counsel, U.S. International Trade Commission, 500 E Street, SW., Washington, DC 20436 or tel. 202-205-3106. Hearing-impaired persons can obtain information on this matter by contacting the Commission's TDD terminal on 202-205-1810. Persons with mobility impairments who will need special assistance in gaining access to the Commission should contact the Office of the Secretary at 202-205-2000.

SUPPLEMENTARY INFORMATION: Pursuant to the Privacy Act of 1974 (5 U.S.C. 522a(e)(4), (11)), the Commission proposes to add the description of four new systems of records, revise the descriptions of its systems of records, and compile a description of all Commission systems of records for ease of reference by interested persons. The Commission previously published notices concerning these systems of records, most recently at 62 FR 23485 (Apr. 30, 1997), 64 FR 62691 (Nov. 17, 1999), and 67 FR 31824 (May 10, 2002). The Commission invites interested persons to submit comments on the actions proposed in this notice.

The Commission proposes to add four new systems of record. The first new system of records is designated as ITC-13 (Administrative Protective Order Breach and Related Records). The addition of this system of records reflects agency practice in the handling of investigations into alleged breaches of administrative protective orders and alleged grounds for sanctions under section 201.15 of Commission's Rules of Practice and Procedure.

The second new system of records is designated as ITC-14 (Import and Export Records). This system of records will assist the Commission in conducting import investigations and industry and economic analysis.

The third new system of records is designated as ITC-15 (Telecommuting Program Records). This system of records will be used to administer and monitor employee compliance with the agency's telecommuting program.

The fourth new system of records is designated as ITC-16 (Emergency Notification Records). This system of records will assist the Commission in notifying and identifying employees or their designees in emergency situations.

The Commission also proposes to revise the descriptions of all Commission systems of records to reflect the transfer of the responsibilities of Privacy Act Officer for the agency from the Director of Administration to the Secretary. The Commission further proposes to revise the system location of the system of records designated as ITC-8 (Library Circulation Records) to reflect the changed name of the agency's library.

In addition, the Commission proposes to revise the system of records designated as ITC-1 (Pay, Leave, and Travel Records) by removing references to travel records and changing the designation to “Pay and Leave Records.” The Commission is making this revision to avoid duplication with the General Services Administration's government-wide system of records, GSA/GOVT-4 (Contracted Travel Services Program), which covers all travel records currently covered by ITC-1. The Commission also proposes to add several new categories of records and a new routine use to this system. The Commission is making these revisions to include additional records the agency maintains covering benefits available to eligible employees. The additional routine use would allow the disclosure of information, only as necessary, to the Department of Interior to effectuate repayment of qualifying employees' federally insured student loans.

The Commission further proposes to revise the system of records designated as ITC-9 (Parking and Mass Transit Subsidy Records) by extending the categories of individuals covered by the system to include former Commission employees. The Commission is making this revision to align the categories of individuals covered by the system with its retention policy, which lasts for two years.

Finally, the Commission proposes to add three routine uses to the systems of records designated as ITC-3 (Office of Inspector General Investigative Files (General)) and ITC-4 (Office of Inspector General Investigative Files (Criminal)). One additional routine use would allow the disclosure of information, as necessary, to persons charged with the responsibility to conduct qualitative assessment reviews of internal safeguards and management procedures employed in Office of Inspector General investigative operations. Another additional use would allow the disclosure of information to members of the President's Council on Integrity and Efficiency and Executive Council on Integrity and Efficiency, and their staff, for the preparation of reports to the President and Congress on the activities of the Inspectors General. The last additional routine use would permit the disclosure of information to any person who has been engaged to assist the Office of Inspector General in the performance of an investigation for the Commission, of a violation or potential violation of law—criminal, civil, or regulatory in nature—and who needs to have access to the records to perform the investigation.

As required by subsection 552a(r) of the Privacy Act, the proposed revisions will be reported to the Office of Management and Budget, the Chair of the Committee on Government Reform of the House of Representatives, and the Chair of the Committee on Homeland Security and Governmental Affairs of the Senate.

Table of Contents

ITC- Pay and Leave Records

ITC-2 Grievance Records

ITC-3 Office of Inspector General Investigative Files (General)

ITC-4 Office of Inspector General Investigative Files (Criminal)

ITC-5 Telephone Call Detail Records

ITC-6 Security Access Records

ITC-7 Personnel Security Investigative Files

ITC-8 Library Circulation Records

ITC-9 Parking and Mass Transit Subsidy Records

ITC-10 Mailing List Records

ITC-11 Congressional Correspondence Records

ITC-12 Computer Access Records

ITC-13 Administrative Protective Order Breach and Related Records

ITC-14 Import and Export Records

ITC-15 Telecommuting Program Records

ITC-16 Emergency Notification Records

Appendix A: General Routine Uses Applicable to More Than One System of Records

Appendix B: Government-Wide Systems of Records Applicable to the Commission

ITC-1

SYSTEM NAME:

Pay and Leave Records.

SYSTEM LOCATION:

Office of Finance, U.S. International Trade Commission, 500 E Street, SW., Washington, DC 20436; National Business Center, U.S. Department of the Interior, Mail Stop D-2600, 7201 West Mansfield Avenue, Lakewood, CO 80235-2230; General Services Administration, 1500 East Bannister Road, Kansas City, MO 64131; and in all Commission offices located at the same address as the Office of Finance.

For Retired Personnel Files: National Archives and Records Administration National Personnel Records Center (Civilian Personnel Records Center), 111 Winnebago Street, St. Louis, MO 63118.

CATEGORIES OF INDIVIDUALS COVERED BY THE SYSTEM:

All current and former Commission employees.

CATEGORIES OF RECORDS IN THE SYSTEM:

This system contains various records relating to pay and leave. This includes information such as: name; title; date of birth; home address; Social Security number; telephone number; W-2 address; grade; employing organization; timekeeper number; salary; pay plan; number of hours worked; leave accrual rate, usage, and balances; compensatory time; credit hours; activity accounting reports; Civil Service Retirement and Federal Retirement System contributions; FICA withholdings; Federal, State, and local tax withholdings; Federal Employee's Group Life Insurance withholdings; Federal Employee's Health Benefits withholdings; charitable deductions; allotments to financial organizations; levy, garnishment, and salary and administrative offset documents; savings bonds allotments; union and management association dues withholding allotments; Combined Federal Campaign and other allotment authorizations; direct deposit information; information on the leave transfer program; tax fringe benefits; health and fitness program designation and cost; fitness program reimbursement amounts; student loan lenders' names and addresses; student loan account numbers; and student loan account balances.

AUTHORITY FOR MAINTENANCE OF THE SYSTEM:

Authority for maintenance of the system includes the following with any revisions or amendments: 5 U.S.C. Chapters 53, 55, 61, and 63; and Executive Order 9397.

PURPOSE(S):

These records are used for the purposes of administering pay and leave, activity accounting, and budget preparation.

ROUTINE USES OF RECORDS MAINTAINED IN THE SYSTEM, INCLUDING CATEGORIES OF USERS, AND THE PURPOSES OF SUCH USES:

General Routine Uses A-K apply to this system.

The pay and leave records are transmitted electronically by the Commission directly to the National Business Center, U.S. Department of the Interior, which provides payroll services. The U.S. Department of the Interior transmits relevant portions of those records as necessary to the following: (a) to the Treasury Department for issuance of pay checks; (b) to the Treasury Department for issuance of savings bonds; (c) to the U.S. Office of Personnel Management (“OPM”) for retirement, health, and life insurance purposes, and to carry out OPM's Government-wide personnel management functions; (d) to the National Finance Center, U.S. Department of Agriculture for the Thrift Savings Plan; (e) to the Social Security Administration for reporting wage data in compliance with the Federal Insurance Compensation Act; (f) to the Internal Revenue Service and to State and local tax authorities for tax purposes, including reporting of withholding, audits, inspections, investigations, and similar tax activities; (g) to the Combined Federal Campaign for charitable contribution purposes; (h) to officials of labor organizations recognized under 5 U.S.C. Chapter 71 for the purpose of identifying Commission employees contributing union dues each pay period and the amount of dues withheld; and (i) to designated student loan lenders for repayment of federally insured student loans.

Relevant information in this system may be disclosed as necessary to other Federal agencies or Federal contractors with statutory authority to assist in the collection of Commission debts.

DISCLOSURE TO CONSUMER REPORTING AGENCIES:

Disclosures may be made from this system pursuant to 5 U.S.C. 552a(b)(12) and 31 U.S.C. 3711(e) to “consumer reporting agencies” as defined in 31 U.S.C. 3701(a)(3).

POLICIES AND PRACTICES FOR STORING, RETRIEVING, ACCESSING, RETAINING, AND DISPOSING OF RECORDS IN THE SYSTEM:

STORAGE:

These records are maintained on computer media, on paper in file folders, and on microfiche. The computer records are shared electronically with the Department of the Interior.

RETRIEVABILITY:

These records are retrieved by the name and Social Security number of the individuals on whom they are maintained.

SAFEGUARDS:

These records are maintained in a building with restricted public access. The records in this system are kept in limited access areas within the building. The paper files are maintained in secure file cabinets or rooms, and access is limited to persons whose official duties require access. The computer files can be accessed only by authorized individuals through the use of passwords.

RETENTION AND DISPOSAL:

Payroll and salary and administrative offset records will be updated as required in accordance with the National Archives and Records Administration's (“NARA's”) General Records Schedule 2. Individual pay records will be transferred to the National Personnel Records Center or destroyed after 56 years in accordance with NARA's General Records Schedule 2. Time and attendance records generally will be destroyed after a Government Accountability Office (“GAO”) audit or when six years old, whichever is sooner, in accordance with NARA's General Records Schedule 2. Tax withholding records will be destroyed when four years old in accordance with NARA's General Records Schedule 2. U.S. Savings Bond authorization (SF 1192 or equivalent) will be destroyed when superceded or after separation of employee in accordance with NARA's General Records Schedule 2. Bond registration files, receipt and transmittal files will be destroyed four months after date of issuance of bond in accordance with NARA's General Records Schedule 2. Combined Federal Campaign and other allotments will be destroyed after a GAO audit or when three years old, whichever is sooner. Thrift Savings Plan Election forms will be destroyed when superceded or after separation of employee in accordance with NARA's General Records Schedule 2. Direct Deposit sign-up forms will be destroyed when superceded or after separation of employee in accordance with NARA's General Records Schedule 2. Levy and garnishment records will be destroyed three years after garnishment is terminated. Records will be disposed of in a secure manner.

SYSTEM MANAGER(S) AND ADDRESS:

For Health and Fitness Program Reimbursement Claims, Director, Office of Administration, U.S. International Trade Commission, 500 E Street, SW., Washington, DC 20436. For Student Loan Reimbursement Program Claims, Office of Human Resources, U.S. International Trade Commission, 500 E Street, SW., Washington, DC 20436. For all other payroll and leave records, Director, Office of Finance, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Social Security Number;

4. Dates of employment; and

5. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Social Security number;

4. Dates of employment; and

5. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436. Individuals must furnish the following information for their records to be located and identified:

1. Full name(s);

2. Date of birth;

3. Social Security number;

4. Dates of employment; and

5. Signature.

Individuals requesting amendment must comply with the Commission's Privacy Act regulations on verification of identity (19 CFR 201.25).

RECORD SOURCE CATEGORIES:

Information in this system is obtained from official personnel documents, the individual to whom the record pertains, and Commission officials responsible for pay, leave, and activity reporting requirements.

ITC-2

SYSTEM NAME:

Grievance Records.

SYSTEM LOCATION:

Offices of Human Resources, Administration, Operations, General Counsel, and the office where grievance originated, U.S. International Trade Commission, 500 E Street, SW., Washington, DC 20436.

CATEGORIES OF INDIVIDUALS COVERED BY THE SYSTEM:

All current and former Commission employees who have submitted grievances in accordance with part 771 of the regulations of the Office of Personnel Management (5 CFR part 771), under 5 U.S.C. 7121, or through a negotiated grievance procedure.

CATEGORIES OF RECORDS IN THE SYSTEM:

This system contains records of grievances filed by agency employees under part 771 of regulations issued by the United States Office of Personnel Management, under 5 U.S.C. 7121 or under negotiated grievance procedures. These case files contain all documents related to the grievance, including statements of witnesses, reports of interviews and hearings, examiner's findings and recommendations, a copy of the original and final decisions, and related correspondence and exhibits. The system includes files and records of internal grievance and arbitration systems established through negotiations with recognized labor organizations.

AUTHORITY FOR MAINTENANCE OF THE SYSTEM:

Authority for maintenance of the system includes the following with any revisions or amendments: 5 U.S.C. 7121; 5 CFR part 771.

PURPOSE(S):

These records are used to process grievances submitted by Commission employees for relief in a matter of concern or dissatisfaction which is subject to the control of agency management, and to provide individuals who submit grievances with a copy of their records in accordance with the grievance process.

ROUTINE USES OF RECORDS MAINTAINED IN THE SYSTEM, INCLUDING CATEGORIES OF USERS, AND THE PURPOSES OF SUCH USES:

General Routine Uses A-C and E-L apply to this system.

Information in this system may be disclosed as necessary to other Federal agencies or Federal contractors with statutory authority to assist in the collection of Commission debts.

POLICIES AND PRACTICES FOR STORING, RETRIEVING, ACCESSING, RETAINING, AND DISPOSING OF RECORDS IN THE SYSTEM:

STORAGE:

These records are maintained on computer media on an internal Commission system and on paper in file folders.

RETRIEVABILITY:

These records are retrieved by the names of the individuals on whom they are maintained.

SAFEGUARDS:

These records are maintained in a building with restricted public access. The records in this system are kept in limited access areas within the building. The paper files are maintained in secure file cabinets, and access is limited to persons whose official duties require access. The computer files can only be accessed by authorized individuals.

RETENTION AND DISPOSAL:

These records will be retained for a minimum of four years, but not longer than seven years, after closing of the case in accordance with the NARA's General Records Schedule 1. Records will be disposed of in a secure manner.

SYSTEM MANAGER(S) AND ADDRESS:

Director, Office of Administration, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment; and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment;

4. Approximate date of closing of the case (if applicable); and

5. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment;

4. Approximate date of closing of the case (if applicable); and

5. Signature.

Individuals requesting amendment must comply with the Commission's Privacy Act regulations on verification of identity (19 CFR 201.25).

RECORD SOURCE CATEGORIES:

Information in this system of records is obtained from:

a. The individual filing the grievance;

b. The testimony of witnesses;

c. Agency officials; and

d. Related correspondence from organizations or persons.

ITC-3

SYSTEM NAME:

Office of Inspector General (“OIG”) Investigative Files (General).

SYSTEM LOCATION:

Office of Inspector General, U.S. International Trade Commission, 500 E Street, SW., Washington, DC 20436.

CATEGORIES OF INDIVIDUALS COVERED BY THE SYSTEM:

This system contains records on individuals and contractors, who are or have been the focus of an OIG investigation relating to the programs and operations of the Commission.

CATEGORIES OF RECORDS IN THE SYSTEM:

This system contains investigatory materials collected by the OIG's investigative unit for law enforcement purposes.

This system contains documentation of any and all complaints and allegations initiating investigations; all relevant correspondence and interviews; witness statements; affidavits; copies of all subpoenas issued; transcripts of any testimony taken in the investigation and accompanying exhibits; documents and other records or copies obtained during the investigation; internal staff memoranda, staff working papers and other documents and records relating to the investigation; and all reports on the investigation.

AUTHORITY FOR MAINTENANCE OF THE SYSTEM:

Authority for maintenance of the system is the Inspector General Act of 1978, Pub. L. No. 95-452, 92 Stat. 1101, 1101-1110 (1978) (codified at 5 U.S.C. 3 app. 1-12), with any revisions or amendments.

PURPOSE(S):

These records are used to investigate and/or take other actions to address allegations of fraud, waste and abuse of a non-criminal nature by Commission employees or contractors.

ROUTINE USES OF RECORDS MAINTAINED IN THE SYSTEM, INCLUDING CATEGORIES OF USERS, AND THE PURPOSES OF SUCH USES:

General Routine Uses A-K apply to this system.

Information from this system of records may be disclosed to any person charged with the responsibility to conduct qualitative assessment reviews of internal safeguards and management procedures employed in Office of Inspector General investigative operations. This disclosure category includes members of the President's Council on Integrity and Efficiency and the Executive Council on Integrity and Efficiency, and their staff, as well as authorized persons at the Department of Justice and the Federal Bureau of Investigation.

Information from this system of records may be disclosed to members of the President's Council on Integrity and Efficiency and the Executive Council on Integrity and Efficiency and their staff for the preparation of reports to the President and Congress on the activities of the Inspectors General.

Information from this system of records may be disclosed to any person who has been engaged to assist the Office of Inspector General in the performance of an investigation for the Commission, of a violation or potential violation of law—criminal, civil, or regulatory in nature—and who needs to have access to the records to perform the investigation. This disclosure category includes members of the President's Council on Integrity and Efficiency and the Executive Council on Integrity and Efficiency, and their staff.

POLICIES AND PRACTICES FOR STORING, RETRIEVING, ACCESSING, RETAINING, AND DISPOSING OF RECORDS IN THE SYSTEM:

STORAGE:

These records are maintained on paper in binders or folders, and on computer media on an internal Commission system.

RETRIEVABILITY:

These records are retrieved by a unique control number assigned to each investigation.

SAFEGUARDS:

These records are maintained in a building with restricted public access. The records in this system are kept in a limited access area within the building. The paper files are maintained in secure file cabinets, and access is limited to persons whose official duties require access. The computer files can only be accessed by authorized individuals.

RETENTION AND DISPOSAL:

These records will be maintained permanently until disposition authority is granted by the NARA. Records will be disposed of in a secure manner.

SYSTEM MANAGER(S) AND ADDRESS:

Inspector General, Office of Inspector General, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment or dates of contractual relationship; and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment or dates of contractual relationship; and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment or dates of contractual relationship; and

4. Signature.

Individuals requesting amendment must comply with the Commission's Privacy Act regulations on verification of identity (19 CFR 201.25).

RECORD SOURCE CATEGORIES:

These files contain information supplied by the following: Individuals, including those to whom the information relates where practicable; witnesses; contractors, corporations, and other entities; records of individuals and of the Commission; Federal, foreign, state or local bodies and law enforcement agencies; documents; correspondence; interview memoranda; transcripts of testimony; and other miscellaneous sources.

SYSTEMS EXEMPTED FROM CERTAIN PROVISIONS OF THE ACT:

Pursuant to 5 U.S.C. 552a(k)(2), this system of records is exempt from (c)(3), (d), (e)(1), (e)(4)(G)-(I), and (f) of the Privacy Act. These exemptions are established in the Commission's rules at 19 CFR 201.32.

ITC-4

SYSTEM NAME:

Office of Inspector General (“OIG”) Investigative Files (Criminal).

SYSTEM LOCATION:

Office of Inspector General, U.S. International Trade Commission, 500 E Street, SW., Washington, DC 20436.

CATEGORIES OF INDIVIDUALS COVERED BY THE SYSTEM:

This system contains records on individuals and contractors, who are or have been the focus of an OIG criminal investigation relating to the programs and operations of the Commission.

CATEGORIES OF RECORDS IN THE SYSTEM:

This system contains records maintained by the OIG's criminal investigations subunit, and consists of information compiled for the purpose of conducting criminal investigations.

This system contains documentation of any and all complaints and allegations initiating investigations; all relevant correspondence and interviews; witness statements; affidavits; copies of all subpoenas issued; transcripts of any testimony taken in the investigation and accompanying exhibits; documents and other records or copies obtained during the investigation; internal staff memoranda, staff working papers and other documents and records relating to the investigation; and all reports on the investigation.

AUTHORITY FOR MAINTENANCE OF THE SYSTEM:

Authority for maintenance of the system is the Inspector General Act of 1978, Pub. L. No. 95-452, 92 Stat. 1101, 1101-1110 (1978) (codified at 5 U.S.C. 3 app. 1-12), with any revisions or amendments.

PURPOSE(S):

These records are used to investigate allegations of criminal violations by Commission employees or contractors.

ROUTINE USES OF RECORDS MAINTAINED IN THE SYSTEM, INCLUDING CATEGORIES OF USERS, AND THE PURPOSES OF SUCH USES:

General Routine Uses A-K apply to this system.

Information from this system of records may be disclosed to any person charged with the responsibility to conduct qualitative assessment reviews of internal safeguards and management procedures employed in Office of Inspector General investigative operations. This disclosure category includes members of the President's Council on Integrity and Efficiency and the Executive Council on Integrity and Efficiency, and their staff, as well as authorized persons at the Department of Justice and the Federal Bureau of Investigation.

Information from this system of records may be disclosed to members of the President's Council on Integrity and Efficiency and the Executive Council on Integrity and Efficiency and their staff for the preparation of reports to the President and Congress on the activities of the Inspectors General.

Information from this system of records may be disclosed to any person who has been engaged to assist the Office of Inspector General in the performance of an investigation for the Commission, of a violation or potential violation of law—criminal, civil, or regulatory in nature—and who needs to have access to the records to perform the investigation. This disclosure category includes members of the President's Council on Integrity and Efficiency and the Executive Council on Integrity and Efficiency, and their staff.

POLICIES AND PRACTICES FOR STORING, RETRIEVING, ACCESSING, RETAINING, AND DISPOSING OF RECORDS IN THE SYSTEM:

STORAGE:

These records are maintained on paper in binders or folders, and on computer media on an internal Commission system.

RETRIEVABILITY:

These records are retrieved by a unique control number assigned to each investigation.

SAFEGUARDS:

These records are maintained in a building with restricted public access. The records in this system are kept in a limited access area within the building. The paper files are maintained in secure file cabinets, and access is limited to persons whose official duties require access. The computer files can only be accessed by authorized individuals.

RETENTION AND DISPOSAL:

These records will be maintained permanently until disposition authority is granted by the NARA. Records will be disposed of in a secure manner.

SYSTEM MANAGER(S) AND ADDRESS:

Inspector General, Office of Inspector General, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment or dates of contractual relationship; and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment or dates of contractual relationship; and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment or dates of contractual relationship; and

4. Signature.

Individuals requesting amendment must comply with the Commission's Privacy Act regulations on verification of identity (19 CFR 201.25).

RECORD SOURCE CATEGORIES:

These files contain information supplied by the following: individuals, including those to whom the information relates where practicable; witnesses; contractors, corporations, and other entities; records of individuals and of the Commission; Federal, foreign, state or local bodies and law enforcement agencies; documents; correspondence; interview memoranda; transcripts of testimony; and other miscellaneous sources.

SYSTEMS EXEMPTED FROM CERTAIN PROVISIONS OF THE ACT:

Pursuant to 5 U.S.C. 552a(j)(2), this system of records is exempted from all provisions of the Privacy Act except (b), (c)(1)-(2), (e)(4)(A)-(F), (e)(6)-(7), (9)-(11), and (i). These exemptions are established in the Commission's rules at 19 CFR 201.32.

ITC-5

SYSTEM NAME:

Telephone Call Detail Records.

SYSTEM LOCATION:

Offices of Information Technology Services, U.S. International Trade Commission, 500 E Street, SW., Washington, DC 20436; General Services Administration, 13221 Woodland Park Rd., Herndon, VA 22071; U.S. Sprint, 8330 Ward Pkwy, Kansas City, MO 64114-2028.

CATEGORIES OF INDIVIDUALS COVERED BY THE SYSTEM:

All Commission employees and all contractors, sub-contractors, consultants and other individuals who are assigned telephone numbers by the Commission and who make long-distance telephone calls or long-distance facsimile transmissions from or charged to the Commission telephone system.

CATEGORIES OF RECORDS IN THE SYSTEM:

This system contains records relating to use of Commission telephones to place long-distance telephone calls or long-distance facsimile transmissions; records indicating assignment of telephone numbers to room numbers and employees; and records relating to location of telephones.

AUTHORITY FOR MAINTENANCE OF THE SYSTEM:

Authority for maintenance of the system includes the following with any revisions or amendments: 19 U.S.C. 1331(a)(1)(A)(iii).

PURPOSE(S):

Records in this system are used to verify telephone usage and resolve billing discrepancies so that telephone bills can be paid. They may also be used to identify and seek reimbursement for unofficial calls, and as a basis for taking action when agency employees or other persons misuse or abuse Commission telephone services.

ROUTINE USES OF RECORDS MAINTAINED IN THE SYSTEM, INCLUDING CATEGORIES OF USERS, AND THE PURPOSES OF SUCH USES:

General Routine Uses A-C, E-I, K, and L apply to this system.

Relevant information in this system may be disclosed as necessary to other Federal agencies or Federal contractors with statutory authority to assist in the collection of Commission debts.

DISCLOSURE TO CONSUMER REPORTING AGENCIES:

Disclosures may be made from this system pursuant to 5 U.S.C. 552a(b)(12) and 31 U.S.C. 3711(e) to “consumer reporting agencies” as defined in 31 U.S.C. 3701(a)(3).

POLICIES AND PRACTICES FOR STORING, RETRIEVING, ACCESSING, RETAINING, AND DISPOSING OF RECORDS IN THE SYSTEM:

STORAGE:

These records are maintained on computer media on an internal Commission system, on paper in file folders, and on computer tape in file cabinets.

RETRIEVABILITY:

These records are retrieved by the telephone number assigned to an individual, by office, date, number called, and city called.

SAFEGUARDS:

These records are maintained in a building with restricted public access. The records in this system are kept in limited access areas within the building. The paper files and computer tapes are maintained in secure file cabinets, and access is limited to persons whose official duties require access. The computer files can only be accessed by authorized individuals through the use of passcodes.

RETENTION AND DISPOSAL:

These records are disposed of as provided in the NARA's General Records Schedule 12. Records will be disposed of in a secure manner.

SYSTEM MANAGER(S) AND ADDRESS:

Director, Office of Information Technology Services, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Assigned phone number; and

5. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable); and

4. Assigned phone number; and

5. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable); and

4. Assigned phone number; and

5. Signature.

Individuals requesting amendment must comply with the Commission's Privacy Act regulations on verification of identity (19 CFR 201.25).

RECORD SOURCE CATEGORIES:

Information from this system is obtained from telephone assignment records; call detail listings and electronic files from the telephone service provider; supervisors' confirmation of employees' responsibility for calls; and certification of telephone bills.

ITC-6

SYSTEM NAME:

Security Access Records.

SYSTEM LOCATION:

Office of Facilities Management, U.S. International Trade Commission, 500 E Street, SW., Washington, DC 20436; Federal Protective Services Division, General Services Administration, Southeast Federal Center, Bldg. 202, Washington, DC 20407; and Kastle Systems, 1501 Wilson Blvd., Arlington, VA 22209.

CATEGORIES OF INDIVIDUALS COVERED BY THE SYSTEM:

All Commission employees and all contractors, sub-contractors, consultants and other individuals who are assigned electronic security keys, and all visitors that sign in at the guard station upon entering the Commission premises.

CATEGORIES OF RECORDS IN THE SYSTEM:

This system contains records relating to the use of electronic security keys, including records on which keys were used to gain or seek access to controlled areas, and the time at which access was gained or sought; and records relating to entry of Commission premises, including the times at which entry and exit were made and location accessed within the Commission.

AUTHORITY FOR MAINTENANCE OF THE SYSTEM:

Authority for maintenance of the system includes the following with any revisions or amendments: 19 U.S.C. 1331(a)(1)(A)(iii).

PURPOSE(S):

These records are used to permit tracking of individual movements in circumstances such as when there has been a security breach or theft, to monitor access to restricted areas, to keep track of all visitors to the Commission or those individuals who do not have Commission identification cards, and to verify time and attendance records of Commission employees to the extent permitted by applicable law and except as prohibited by Commission policy.

ROUTINE USES OF RECORDS MAINTAINED IN THE SYSTEM, INCLUDING CATEGORIES OF USERS, AND THE PURPOSES OF SUCH USES:

General Routine Uses A-C, E-I, K, and L apply to this system.

POLICIES AND PRACTICES FOR STORING, RETRIEVING, ACCESSING, RETAINING, AND DISPOSING OF RECORDS IN THE SYSTEM:

STORAGE:

The visitor log records are maintained on paper in file folders; the security key records are maintained on electronic tape and magnetic disk.

RETRIEVABILITY:

The visitor log records are retrieved by month and year; the security key records are retrieved by area accessed, date and time of entry, key number, and name of individual.

SAFEGUARDS:

The visitor log records are maintained by the Federal Protective Service in a secure facility with access limited to persons whose official duties require access. The security key records are maintained by the contractor in a secure facility with access limited to persons whose official duties require access.

RETENTION AND DISPOSAL:

The visitor log will be retained for two years in accordance with the NARA's General Records Schedule 18. The security key records are maintained for 90 days. Records will be disposed of in a secure manner.

SYSTEM MANAGER(S) AND ADDRESS:

Director, Office of Facilities Management, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Date of visit(s) (for visitor log records); and

5. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable);

4. Date of visit(s) (for visitor log records); and

5. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable);

4. Date of visit(s) (for visitor log records); and

5. Signature.

Individuals requesting amendment must comply with the Commission's Privacy Act regulations on verification of identity (19 CFR 201.25).

RECORD SOURCE CATEGORIES:

Information in this system is obtained from the visitor logs and, in the case of security key records, from the Commission security contractor.

ITC-7

SYSTEM NAME:

Personnel Security Investigative Files.

SYSTEM LOCATION:

Office of Human Resources, U.S. International Trade Commission, 500 E Street, SW., Washington, DC 20436.

CATEGORIES OF INDIVIDUALS COVERED BY THE SYSTEM:

All current and former employees and all applicants for employment.

CATEGORIES OF RECORDS IN THE SYSTEM:

This system contains records relating to name, date of birth, place of birth, Social Security Number, citizenship, fingerprints, credit references, credit records, education, arrest records, Federal employee relatives, dates and purposes of visits to foreign countries, passport number(s), names of spouse(s), names of relatives, names of references, date(s) of appointment, position title(s), grade, duty station(s), Office of Human Resources file folder location, type of clearance granted, clearance date, clearance termination date, suitability date, investigation basis, investigation completion date, background investigation update and upgrade information, Commission termination date, security briefing data, and security investigator's notes on information gathered during the investigation.

AUTHORITY FOR MAINTENANCE OF THE SYSTEM:

Authority for maintenance of the system includes the following with any revisions or amendments: Executive Order 10450; 19 U.S.C. 1331(a)(1)(A)(iii).

PURPOSE(S):

Records in this system are used to: determine whether to issue security clearances; provide a current record of Commission employees with security clearance(s); and provide access cards and keys to Commission buildings and offices.

ROUTINE USES OF RECORDS MAINTAINED IN THE SYSTEM, INCLUDING CATEGORIES OF USERS, AND THE PURPOSES OF SUCH USES:

General Routine Uses A-C and E-K apply to this system.

Relevant information in this system may be disclosed as necessary to other Federal agencies or Federal contractors with statutory authority to assist in the collection of Commission debts.

DISCLOSURE TO CONSUMER REPORTING AGENCIES:

Disclosures may be made from this system pursuant to 5 U.S.C. 552a(b)(12) and 31 U.S.C. 3711(f) to “consumer reporting agencies” as defined in 31 U.S.C. 3701(a)(3).

POLICIES AND PRACTICES FOR STORING, RETRIEVING, ACCESSING, RETAINING, AND DISPOSING OF RECORDS IN THE SYSTEM:

STORAGE:

These records are maintained on paper in file folders.

RETRIEVABILITY:

These records are retrieved by name.

SAFEGUARDS:

These records are maintained in a building with restricted public access. The records in this system are kept in locked file cabinets in a limited access area within the building. Access is limited to persons whose official duties require access.

RETENTION AND DISPOSAL:

These records will be retained not later than five years after separation or transfer of employee in accordance with the NARA's General Records Schedule 18. Records will be disposed of in a secure manner.

SYSTEM MANAGER(S) AND ADDRESS:

Director, Office of Administration, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable); and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting amendment must comply with the Commission's Privacy Act regulations on verification of identity (19 CFR 201.25).

RECORD SOURCE CATEGORIES:

Information is obtained from the individual on whom record is maintained; Office of Personnel Management; and any contractor who has been retained by the Commission to conduct background investigations.

SYSTEMS EXEMPTED FROM CERTAIN PROVISIONS OF THE ACT:

Pursuant to 5 U.S.C. 552a(k)(1), (k)(5) and (k)(6), this system of records is exempted from (c)(3), (d), (e)(1), (e)(4)(G)-(I) and (f) of the Privacy Act. These exemptions are established in the Commission rules at 19 CFR 201.32.

ITC-8

SYSTEM NAME:

Library Circulation Records.

SYSTEM LOCATION:

The Knowledge Resource Services (“Library”), U.S. International Trade Commission, 500 E Street, SW., Washington, DC 20436.

CATEGORIES OF INDIVIDUALS COVERED BY THE SYSTEM:

All Commission employees who have borrowed materials from the Library.

CATEGORIES OF RECORDS IN THE SYSTEM:

This system contains records relating to titles and other identifying data on materials borrowed from the Library, and agency, office, office telephone number, and office room number of borrower, and the scheduled return date for each item borrowed.

AUTHORITY FOR MAINTENANCE OF THE SYSTEM:

Authority for maintenance of the system includes the following with any revisions or amendments: 40 U.S.C. 524(a); 19 U.S.C. 1331(a)(1)(A)(iii).

PURPOSE(S):

Records in this system are used to locate Library materials in circulation and to control and inventory Library materials loaned.

ROUTINE USES OF RECORDS MAINTAINED IN THE SYSTEM, INCLUDING CATEGORIES OF USERS, AND THE PURPOSES OF SUCH USES:

General Routine Uses E, H, I, and L apply to this system.

Relevant information in this system may be disclosed as necessary to other Federal agencies or Federal contractors with statutory authority to assist in the collection of Commission debts.

DISCLOSURE TO CONSUMER REPORTING AGENCIES:

Disclosures may be made from this system pursuant to 5 U.S.C. 552a(b)(12) and 31 U.S.C. 3711(e) to “consumer reporting agencies” as defined in 31 U.S.C. 3701(a)(3).

POLICIES AND PRACTICES FOR STORING, RETRIEVING, ACCESSING, RETAINING, AND DISPOSING OF RECORDS IN THE SYSTEM:

STORAGE:

These records are maintained on computer media on an internal Commission system and on paper in an index system.

RETRIEVABILITY:

These records are retrieved by name, by title of item borrowed, and by call number.

SAFEGUARDS:

These records are maintained in a building with restricted public access. The records in this system are in a limited access area within the building. The paper records are kept within the control of Library staff during working hours and in a locked area at other times. The computer files can only be accessed by authorized individuals.

RETENTION AND DISPOSAL:

These records are maintained until the borrowed material is returned or until an employee is no longer employed at the Commission. Records will be disposed of in a secure manner.

SYSTEM MANAGER(S) AND ADDRESS:

Chief, Library Services, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment; and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment; and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment; and

4. Signature.

Individuals requesting amendment must comply with the Commission's Privacy Act regulations on verification of identity (19 CFR 201.25).

RECORD SOURCE CATEGORIES:

Information is obtained from the individual who borrows materials, from library records on materials borrowed, and from the Commission telephone directory.

ITC-9

SYSTEM NAME:

Parking and Mass Transit Subsidy Records.

SYSTEM LOCATION:

Office of Facilities Management, U.S. International Trade Commission, 500 E Street, SW., Washington, DC 20436.

CATEGORIES OF INDIVIDUALS COVERED BY THE SYSTEM:

All current and former Commission employees and other authorized individuals who participate in the Commission mass transit and car pool subsidy programs.

CATEGORIES OF RECORDS IN THE SYSTEM:

This system contains records relating to name, office room number, office phone number, agency, home address, automobile type and license number, length of government service, Social Security number, and type of transportation used for commuting.

AUTHORITY FOR MAINTENANCE OF THE SYSTEM:

Authority for maintenance of the system includes the following with any revisions or amendments: 19 U.S.C. 1331(a)(1)(A)(iii); 41 CFR 102-74; 5 U.S.C. 7905.

PURPOSE(S):

Records in this system are used to allocate and control agency-subsidized parking spaces and mass transit subsidies, assist in creating car pools, and insure that employees qualify for subsidized parking spaces or mass transit subsidies.

ROUTINE USES OF RECORDS MAINTAINED IN THE SYSTEM, INCLUDING CATEGORIES OF USERS, AND THE PURPOSES OF SUCH USES:

General Routine Uses A-C, E-I, K, and L apply to this system.

Relevant information in this system may be disclosed as necessary to other Federal agencies or Federal contractors with statutory authority to assist in the collection of Commission debts.

DISCLOSURE TO CONSUMER REPORTING AGENCIES:

Disclosures may be made from this system pursuant to 5 U.S.C. 552a(b)(12) and 31 U.S.C. 3711(e) to “consumer reporting agencies” as defined in 31 U.S.C. 3701(a)(3).

POLICIES AND PRACTICES FOR STORING, RETRIEVING, ACCESSING, RETAINING, AND DISPOSING OF RECORDS IN THE SYSTEM:

STORAGE:

These records are maintained on paper in file folders and on computer media.

RETRIEVABILITY:

These records are retrieved by applicant name or, in the case of parking records, space assignment.

SAFEGUARDS:

These records are maintained in a building with restricted public access. The records in this system are in a limited access area within the building. Access is limited to persons whose official duties require access.

RETENTION AND DISPOSAL:

Parking and Mass Transit Subsidy Records normally will be maintained for two years. Records will be disposed of in a secure manner.

SYSTEM MANAGER(S) AND ADDRESS:

Director, Office of Facilities Management, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting amendment must comply with the Commission's Privacy Act regulations on verification of identity (19 CFR 201.25).

RECORD SOURCE CATEGORIES:

Information is obtained from the individual to whom the records pertain.

ITC-10

SYSTEM NAME:

Mailing List Records

SYSTEM LOCATION:

Office of the Secretary, U.S. International Trade Commission, 500 E Street, SW., Washington, DC 20436.

CATEGORIES OF INDIVIDUALS COVERED BY THE SYSTEM:

Individuals requesting placement on a Commission mailing list.

CATEGORIES OF RECORDS IN THE SYSTEM:

This systems contains records of requests by individuals, including their name, organization, business or home address, telephone numbers, facsimile numbers and electronic mail address.

AUTHORITY FOR MAINTENANCE OF THE SYSTEM:

Authority for maintenance of the system includes the following with any revisions or amendments: 19 U.S.C. 1331(a)(1)(A)(iii).

PURPOSE(S):

Records in this system are used to address various agency publications.

ROUTINE USES OF RECORDS MAINTAINED IN THE SYSTEM, INCLUDING CATEGORIES OF USERS, AND THE PURPOSES OF SUCH USES:

Address labels from these records are affixed to the Commission's mailings.

POLICIES AND PRACTICES FOR STORING, RETRIEVING, ACCESSING, RETAINING, AND DISPOSING OF RECORDS IN THE SYSTEM:

STORAGE:

These records are maintained on computer media on an internal Commission system.

RETRIEVABILITY:

These records are retrieved by name and company name.

SAFEGUARDS:

These records are maintained in a building with restricted public access. The records in this system are kept in a limited access area within the building. Access to the files is limited to individuals whose official duties require access.

RETENTION AND DISPOSAL:

Records are maintained until individuals to whom the records pertain request deletion or fail to respond to a validation request, or have mail returned by the post office without a forwarding address. Records will be disposed of in a secure manner.

SYSTEM MANAGER(S) AND ADDRESS:

Secretary, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable); and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting amendment must comply with the Commission's Privacy Act regulations on verification of identity (19 CFR 201.25).

RECORD SOURCE CATEGORIES:

Information is obtained from the individual to whom the records pertain.

ITC-11

SYSTEM NAME:

Congressional Correspondence Records

SYSTEM LOCATION:

Office of External Relations, U.S. International Trade Commission, 500 E Street, SW., Washington, DC 20436, and other offices in the Commission with information pertaining to the correspondence located at the same address as the Office of External Relations.

CATEGORIES OF INDIVIDUALS COVERED BY THE SYSTEM:

Members of Congress.

CATEGORIES OF RECORDS IN THE SYSTEM:

This system contains records relating to the name, address and title of, and referrals of constituents' inquiries, from Members of Congress and responses thereto, and any other personal information in correspondence.

AUTHORITY FOR MAINTENANCE OF THE SYSTEM:

Authority for maintenance of the system includes the following with any revisions or amendments: 44 U.S.C. 3101; 19 U.S.C. 1331(a)(1)(A)(iii).

PURPOSE(S):

Records in this system are used to respond to Congressional inquiries and inform Congress about Commission activities.

ROUTINE USES OF RECORDS MAINTAINED IN THE SYSTEM, INCLUDING CATEGORIES OF USERS, AND THE PURPOSES OF SUCH USES:

General routine uses A, D, E, F, K, and L apply to this system.

Referral may be made to other Federal, State, or local government agencies for appropriate action when the matter complained of or inquired about comes within the jurisdiction of such agency.

POLICIES AND PRACTICES FOR STORING, RETRIEVING, ACCESSING, RETAINING, AND DISPOSING OF RECORDS IN THE SYSTEM:

STORAGE:

These records are maintained on paper in file folders and on computer media on an internal Commission system.

RETRIEVABILITY:

These records are retrieved by name of Member of Congress.

SAFEGUARDS:

These records are maintained in a building with restricted public access. The records in this system are kept in limited access areas within the building. The paper files are stored in secure file cabinets and access is limited to persons whose official duties require access. The computer files can only be accessed by authorized individuals.

RETENTION AND DISPOSAL:

Records are maintained at least two years subsequent to the end of a Member of Congress' term in office. Records will be disposed of in a secure manner.

SYSTEM MANAGER(S) AND ADDRESS:

Director, Office of External Relations, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable); and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting access must comply with the Commission's Privacy Act regulations on verification of identity (19 CFR 201.25)

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting amendment must comply with the Commission's Privacy Act regulations on verification of identity (19 CFR 201.25).

RECORD SOURCE CATEGORIES:

Information from this system comes from Members of Congress, their staffs, and individuals on whose behalf there have been Congressional inquiries.

ITC-12

SYSTEM NAME:

Computer Access Records.

SYSTEM LOCATION:

Office of Information Technology Services, U.S. International Trade Commission, 500 E Street, SW., Washington, DC 20436.

CATEGORIES OF INDIVIDUALS COVERED BY THE SYSTEM:

All current and former Commission employees and all contractors, sub-contractors, consultants, and other individuals who use Commission computers or visit the Commission's World Wide Web sites.

CATEGORIES OF RECORDS IN THE SYSTEM:

This system contains information pertaining to a computer user's access to Commission computers, including such information as the identification of the computer assigned to a particular user, Internet sites visited, dates, and time. It also includes records relating to name, address, telephone number, fax number, electronic mail address, employer type, agency or firm name, the computer's Internet protocol addresses, and account number gathered while accessing the Commission's World Wide Web sites.

AUTHORITY FOR MAINTENANCE OF THE SYSTEM:

Authority for maintenance of the system includes the following with any revisions or amendments: 19 U.S.C. 1331(a)(1)(A)(iii).

PURPOSE(S):

These records are used to permit tracking of individual computer access to prevent improper use of agency equipment. These records also are used as a tool for investigation in the event of an unauthorized intrusion into the Commission's computer systems. Additionally, these records are used for statistical analysis of computer usage.

ROUTINE USES OF RECORDS MAINTAINED IN THE SYSTEM, INCLUDING CATEGORIES OF USERS, AND THE PURPOSES OF SUCH USES:

General Routine Uses A-C and E-L apply to this system.

POLICIES AND PRACTICES FOR STORING, RETRIEVING, ACCESSING, RETAINING, AND DISPOSING OF RECORDS IN THE SYSTEM:

STORAGE:

The Computer Access Records are maintained on electronic tape and magnetic disk or other data storage media.

RETRIEVABILITY:

The Internet access records are retrieved by computer address, which is associated with the name of the person to whom the computer is assigned. The Internet protocol address records are retrieved by searching for the address on the electronic tape or magnetic disk or other data storage media.

SAFEGUARDS:

The records are maintained in a secure location with access limited to persons whose official duties require access.

RETENTION AND DISPOSAL:

The Computer Access Records generally will be retained for up to three months for tracking and investigation purposes and for up to five years for analysis purposes. Records will be disposed of in a secure manner.

SYSTEM MANAGER(S) AND ADDRESS:

Director, Office of the Information Technology Services, U.S. International Trade Commission, 500 E Street, SW., Washington, DC 20436.

NOTIFICATION OF PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting amendment must comply with the Commission's Privacy Act regulations on verification of identity (19 CFR 201.25).

RECORD SOURCE CATEGORIES:

Information in this system comes from the Commission's computer systems and firewall gateway server software.

ITC-13

SYSTEM NAME:

Administrative Protective Order Breach and Related Records.

SYSTEM LOCATION:

Office of the Secretary, U.S. International Trade Commission, 500 E Street, SW., Washington, DC 20436, and other Commission offices.

CATEGORIES OF INDIVIDUALS COVERED BY THE SYSTEM:

Persons subject to investigations of alleged breaches of administrative protective orders and/or investigations of whether there is good cause to sanction persons under section 201.15 of the Commission's Rules of Practice and Procedure (19 CFR 201.15).

CATEGORIES OF RECORDS IN THE SYSTEM:

This system contains records relating to a person's name, firm, address, the basis for the investigation, the Commission's determinations with respect to the facts of the investigation, and any sanctions or other actions taken in response to the agency's determinations.

AUTHORITY FOR MAINTENANCE OF THE SYSTEM:

Authority for maintenance of the system includes the following with any revisions or amendments: 19 U.S.C. 1337, 1677f, 2252, 2451, and 2451a.

PURPOSE(S):

Records in this system are used to determine whether a person has breached an administrative protective order and/or should be sanctioned.

ROUTINE USES OF RECORDS MAINTAINED IN THE SYSTEM, INCLUDING CATEGORIES OF USERS, AND THE PURPOSES OF SUCH USES:

General Routine Uses A-C and E-K apply to this system.

Relevant information in this system may be disclosed as necessary to the public where the Commission determines that a public sanction is warranted.

Information from this system of records concerning one person may be disclosed to other persons subject to the same investigation of alleged breaches of administrative protective orders and/or investigations of whether there is good cause to sanction persons under section 201.15 of the Commission's Rules of Practice and Procedure (19 CFR 201.15).

POLICIES AND PRACTICES FOR STORING, RETRIEVING, ACCESSING, RETAINING, AND DISPOSING OF RECORDS IN THE SYSTEM:

STORAGE:

These records are maintained on magnetic disk or other electronic data storage media.

RETRIEVABILITY:

These records are retrieved by name.

SAFEGUARDS:

These records are maintained in a building with restricted public access. The records in this system are kept in computers equipped with access controls in limited access areas within the building. Access is limited to persons whose official duties require access.

RETENTION AND DISPOSAL:

These records will be retained no later than ten years after an investigation is closed in accordance with the Commission's Records Disposition Schedule. Records will be disposed of in a secure manner.

SYSTEM MANAGER(S) AND ADDRESS:

Secretary, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish their full name and signature for their records to be located and identified.

RECORD ACCESS PROCEDURE:

Individuals wishing to request access to their records should contact the Privacy Act Officer, Office of the Secretary, U.S. International Trade Commission, 500 E Street, SW., Washington, DC 20436.

Individuals must furnish their full name and signature for their records to be located and identified.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish their full name and signature for their records to be located and identified.

Individuals requesting amendment must comply with the Commission's Privacy Act regulations on verification of identity (19 CFR 201.25).

RECORD SOURCE CATEGORIES:

Information in this system comes from the individual on whom the record is maintained and investigative records compiled by Commission staff.

ITC-14

SYSTEM NAME:

Import and Export Records

SYSTEM LOCATION:

Office of Operations, U.S. International Trade Commission, 500 E Street, SW., Washington, DC 20436.

CATEGORIES OF INDIVIDUALS COVERED BY THE SYSTEM:

Individuals importing to and/or exporting from the United States, and individuals producing articles for import and/or export.

CATEGORIES OF RECORDS IN THE SYSTEM:

The system contains records relating to an importer's, exporter's, or producer's name, organization, title or position, business role, address, telephone number, electronic mail address, Web site address, and Social Security number or Dun's number, as well as quantity and value information on imports and exports.

AUTHORITY FOR MAINTENANCE OF THE SYSTEM:

Authority for maintenance of the system includes the following with any revisions or amendments: 19 U.S.C. 1330-1335, 1337, 1671 et seq., 2151, 2163, 2213, 2251-54, 2436, 2451-51a, 2482, 2704, 3204, 3353, 3372, 3381, 3804; 7 U.S.C. 624.

PURPOSE(S):

Records in this system are used to conduct statutorily mandated investigations and studies, such as antidumping, countervailing duty, global safeguard, and intellectual property-related investigations and industry and economic analysis.

ROUTINE USES OF RECORDS MAINTAINED IN THE SYSTEM, INCLUDING CATEGORIES OF USERS, AND THE PURPOSES OF SUCH USES:

General Routine Uses A-C, E-I, and K apply to this system.

Records in this system may be disclosed as necessary to the Office of the United States Trade Representative and other agencies in safeguard and intellectual-property related investigations.

Records in this system may be disclosed as necessary to U.S. Customs and Border Protection in intellectual-property and import injury investigations in accordance with statutory authority to facilitate that agency's fraud investigations and administration of entry exclusions.

Records in this system may be disclosed as necessary to representatives of parties to investigations under administrative protective order.

Records in this system may be publicly disclosed as necessary in aggregated form that is not individually identifiable.

POLICIES AND PRACTICES FOR STORING, RETRIEVING, ACCESSING, RETAINING, AND DISPOSING OF RECORDS IN THE SYSTEM:

STORAGE:

These records are maintained on computer media on an internal Commission system and in hard copies in internal Commission offices and in similar storage at NAFTA panels and other tribunals, and firms subject to administrative and judicial protective order

RETRIEVABILITY:

These records are retrieved by name.

SAFEGUARDS:

These records are maintained in a building with restricted public access. The records in this system are kept in a limited access area within the building. Access to the files is limited to individuals whose official duties require access.

RETENTION AND DISPOSAL:

Records normally are maintained for no more than twenty years in accordance with the Commission's Records Disposal Schedule. Records will be disposed of in a secure manner.

SYSTEM MANAGER(S) AND ADDRESS:

Director, Office of Operations, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable); and

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable); and

4. Signature.

Individuals requesting amendment must comply with the Commission's Privacy Act regulations on verification of identity (19 CFR 201.25).

RECORD SOURCE CATEGORIES:

Information is obtained from U.S. Customs and Border Protection and other agencies that collect the information.

ITC-15

SYSTEM NAME:

Telecommuting Program Records.

SYSTEM LOCATION:

Office of Facilities Management, U.S. International Trade Commission, 500 E Street, SW., Washington, DC 20436.

CATEGORIES OF INDIVIDUALS COVERED BY THE SYSTEM:

All current and former Commission employees and other authorized individuals who participate in the Commission telecommuting program.

CATEGORIES OF RECORDS IN THE SYSTEM:

This system contains records relating to a person's name, title, office, supervisor, electronic mail address, telephone number, and alternate duty station address.

AUTHORITY FOR MAINTENANCE OF THE SYSTEM:

Authority for maintenance of the system includes the following with any revisions or amendments: 19 U.S.C. 1331(a)(1)(A)(iii); Pub. L. No. 106-346, § 359, 114 Stat. 1356, 1356A-36 (2000).

PURPOSE(S):

Records in this system are used to administer the agency's telecommuting program. They may also be used to monitor employee compliance with the agency's telecommuting procedures.

ROUTINE USES OF RECORDS MAINTAINED IN THE SYSTEM, INCLUDING CATEGORIES OF USERS, AND THE PURPOSES OF SUCH USES:

General Routine Uses A-C and E-L apply to this system.

Relevant information in this system may be disclosed as necessary to the United States Congress in a form that does not identify covered individuals.

POLICIES AND PRACTICES FOR STORING, RETRIEVING, ACCESSING, RETAINING, AND DISPOSING OF RECORDS IN THE SYSTEM:

STORAGE:

These records are maintained on paper in file folders and on computer media.

RETRIEVABILITY:

These records are retrieved by name.

SAFEGUARDS:

These records are maintained in a building with restricted public access. The records in this system are in a limited access area within the building. Access is limited to persons whose official duties require access.

RETENTION AND DISPOSAL:

Telecommuting Program Records normally will be maintained for two years. Records will be disposed of in a secure manner.

SYSTEM MANAGER(S) AND ADDRESS:

Director, Office of Facilities Management, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting amendment must comply with the Commission's Privacy Act regulations on verification of identity (19 CFR 201.25).

RECORD SOURCE CATEGORIES:

Information is obtained from the individual to whom the records pertain.

ITC-16

SYSTEM NAME:

Emergency Notification Records.

SYSTEM LOCATION:

The various offices within the U.S. International Trade Commission, 500 E Street, SW., Washington, DC 20436.

CATEGORIES OF INDIVIDUALS COVERED BY THE SYSTEM:

All current Commission employees.

CATEGORIES OF RECORDS IN THE SYSTEM:

This system contains records relating to a person's name, title, office, electronic mail address, and telephone number, as well as the name, address, and telephone number of the employee's designated emergency contact.

AUTHORITY FOR MAINTENANCE OF THE SYSTEM:

Authority for maintenance of the system includes the following with any revisions or amendments: 19 U.S.C. 1331(a)(1)(A)(iii).

PURPOSE(S):

Records are maintained in this system for the purpose of notifying and identifying employees or their designees under emergency conditions.

ROUTINE USES OF RECORDS MAINTAINED IN THE SYSTEM, INCLUDING CATEGORIES OF USERS, AND THE PURPOSES OF SUCH USES:

General Routine Uses A-C and E-L apply to this system.

POLICIES AND PRACTICES FOR STORING, RETRIEVING, ACCESSING, RETAINING, AND DISPOSING OF RECORDS IN THE SYSTEM:

STORAGE:

These records are maintained on paper in file folders in internal Commission offices and on computer media on an internal Commission system.

RETRIEVABILITY:

These records are retrieved by name.

SAFEGUARDS:

These records are maintained in a building with restricted public access. The records in this system are in a limited access area within the building. Access is limited to persons whose official duties require access.

RETENTION AND DISPOSAL:

Emergency Notification Records will be maintained for the duration of an individual's employment with the Commission. Records will be disposed of in a secure manner.

SYSTEM MANAGER(S) AND ADDRESS:

Director, Office of Human Resources, U.S. International Trade Commission, 500 E Street, SW., Washington, DC 20436.

NOTIFICATION PROCEDURE:

Individuals wishing to inquire whether this system of records contains information about them should contact the Privacy Act Officer, Office of the Secretary, U.S. International Trade Commission, 500 E Street, SW., Washington, DC 20436.

Individuals must furnish the following information for their records to be located and identified:

1. Full name(s);

2. Date of birth;

3. Dates of employment (if applicable);

4. Signature.

RECORD ACCESS PROCEDURE:

Individuals wishing to request access to their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting access must comply with the Commission's Privacy Act regulations on verification of identity (19 CFR 201.25).

CONTESTING RECORD PROCEDURE:

Individuals wishing to request amendment of their records should contact the Privacy Act Officer, Office of the Secretary, U.S. International Trade Commission, 500 E Street, SW., Washington, DC 20436.

Individuals must furnish the following information for their records to be located and identified:

1. Full name(s);

2. Date of birth;

3. Dates of employment (if applicable);

4. Signature.

Individuals requesting amendment must comply with the Commission's Privacy Act regulations on verification of identity (19 CFR 201.25).

RECORD SOURCE CATEGORIES:

Information is obtained from the individual to whom the records pertain.

Appendix A: General Routine Uses Applicable to More Than One System of Records

A. Disclosure for Law Enforcement Purposes

When information indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, rule, regulation, or order issued pursuant thereto, if the information disclosed is relevant to any enforcement, regulatory, investigative or prosecutive responsibility of the receiving entity.

B. Disclosure Incident to Requesting Information

Information may be disclosed to any source from which additional information is requested (to the extent necessary to identify the individual, inform the source of the purpose(s) of the request, and to identify the type of information requested), when necessary to obtain information relevant to an agency decision concerning retention of an employee or other personnel action (other than hiring), retention of a security clearance, the letting of a contract, or the issuance or retention of a grant, or other benefit.

C. Disclosure to Requesting Agency

Disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action.

D. Disclosure to Office of Management and Budget

Information may be disclosed to the Office of Management and Budget at any stage in the legislative coordination and clearance process in connection with private relief legislation as set forth in OMB Circular No. A-19.

E. Disclosure to Congressional Offices

Information may be disclosed to a congressional office from the record of an individual in response to an inquiry from the congressional office made at the written request of the individual about whom the record is maintained. Disclosure will not be made until the congressional office has furnished appropriate documentation of the individual's request, such as a copy of the individual's written request.

F. Disclosure to Department of Justice

Information may be disclosed to the Department of Justice, or in a proceeding before a court, adjudicative body, or other administrative body before which the Commission is authorized to appear, when:

1. The Commission, or any component thereof; or

2. Any employee of the Commission in his or her official capacity; or

3. Any employee of the Commission in his or her individual capacity where the Department of Justice or the Commission has agreed to represent the employee; or

4. The United States is a party to litigation or has an interest in such litigation, and the Commission determines that the records are both relevant and necessary to the litigation and the use of such records is deemed by the Commission to be for a purpose that is compatible with the purpose for which the records were collected.

G. Disclosure to the National Archives and General Services Administration

Information may be disclosed to the National Archives and Records Administration or General Services Administration for records management inspections conducted under 44 U.S.C. 2904 and 2906.

H. Disclosure to Contractors, Grantees, Etc.

Information may be disclosed to agency contractors, grantees, consultants, or volunteers who have been engaged to assist the agency in the performance of a contract, service, grant, cooperative agreement, job, or other activity for the Commission related to this system of records and who need to have access to the records in order to perform the activity for the Commission. This includes Federal agencies providing payroll, management, or administrative services to the Commission. When appropriate, recipients shall be required to comply with the requirements of the Privacy Act of 1974 as provided in 5 U.S.C. 552a(m).

I. Disclosures for Administrative Claims, Complaints and Appeals

Information from this system of records may be disclosed to an authorized appeal grievance examiner, formal complaints examiner, equal employment opportunity investigator, arbitrator or other person properly engaged in investigation or settlement of an administrative grievance, complaint, claim, or appeal filed by an employee or former employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics.

J. Disclosure to the Office of Personnel Management

Information from this system of records may be disclosed to the Office of Personnel Management pursuant to that agency's responsibility for evaluation and oversight of Federal personnel management.

K. Disclosure in Connection with Litigation

Information from this system of records may be disclosed in connection with litigation or settlement discussions regarding claims by or against the Commission, including public filing with a court, to the extent that disclosure of the information is relevant and necessary to the litigation or discussions and except where court orders are otherwise required under section (b)(11) of the Privacy Act of 1974, 5 U.S.C. 552a(b)(11).

L. Disclosure to Labor Unions

Information from this system of records may be disclosed to provide information to officials of labor organizations when relevant and necessary to their duties of exclusive representation concerning personnel policies, practices, and matters affecting work conditions.

Appendix B: Government-Wide Systems Notices Applicable to the Commission

The Commission maintains some records covered by Government-wide systems of records notices published by other agencies. There may not be actual Commission files in all Government-wide systems. This list is based on Privacy Act Issuances, 2003 Compilation, available at http://www.gpoaccess.gov/privacyact/2003.html. Any later established Government-wide systems notices may also be applicable.

1. DOL/GOVT-1 Federal Employees' Compensation Act File.

2. DOL/GOVT-2 Jobs Corps Student Records.

3. EEOC/GOVT-1 Equal Employment Opportunity in the Federal Government Complaint and Appeal Records.

4. FEMA/GOVT-1 National Defense Executive Reserve System.

5. GSA/GOVT-2 Employment Under Commercial Activities Contracts.

6. GSA/GOVT-3 Travel Charge Card Program.

7. GSA/GOVT-4 Contracted Travel Service Program.

8. GSA/GOVT-5 Access Certificates for Electronic Services.

9. MSPB/GOVT-1 Appeals and Case Records.

10. OGE/GOVT-1 Executive Branch Personnel Public Financial Disclosure Reports and Other Name-Retrieved Ethics Program Records.

11. OGE/GOVT-2 Executive Branch Confidential Financial Disclosure Reports.

12. OPM/Central-1 Civil Service Retirement and Insurance Records.

13. OPM/Central-2 Complaints and Inquiries Records.

14. OPM/Central-5 Intergovernmental Personnel Act Assignment Records.

15. OPM/Central-6 Administrative Law Judge Application Records.

16. OPM/Central-7 Litigation and Claims Records.

17. OPM/Central-9 Personnel Investigations Records.

18. OPM/Central-10 Federal Executive Institute Program Participant Records.

19. OPM/Central-11 Presidential Management Intern (PMI) Program Records.

20. OPM/Central-13 Executive Personnel Records.

21. OPM/GOVT-1 General Personnel Records.

22. OPM/GOVT-2 Employee Performance File System Records.

23. OPM/GOVT-3 Records of Adverse Actions, Performance Based Reduction in Grade and Removal Actions, and Termination of Probationers.

24. OPM/GOVT-5 Recruiting, Examining, and Placement Records.

25. OPM/GOVT-6 Personnel Research and Test Validation Records.

26. OPM/GOVT-7 Applicant Race, Sex, National Origin, and Disability Status Records.

27. OPM/GOVT-9 File on Position Classification Appeals, Job Grading Appeals, and Retained Grade or Pay Appeals, and Fair Labor Standard Act (FLSA) Claims and Complaints.

28. OPM/GOVT-10 Employee Medical File System Records.

Issued: June 13, 2006.
By order of the Commission.
Marilyn R. Abbott,
Secretary to the Commission.

[FR Doc. 06-5523 Filed 6-16-06; 8:45 am]

BILLING CODE 7020-02-P